DEPARTMENT OF THE TREASURY

Internal Revenue Service

26 CFR Part 1

[REG-133791-02 and REG-105606-99]

RIN 1545-BABB and 1545-AX05

Credit for Increasing Research Activities; Correction

AGENCY: Internal Revenue Service (IRS), Treasury.

ACTION: Correction to notice of proposed rulemaking.

SUMMARY: This document contains corrections to proposed regulations that were published in the Federal Register on July 29, 2003 (68 FR 44499). This regulation relates to the computation and allocation of the credit for increasing research activities for members of a controlled group of corporations or a group of trades or businesses under common control.

FOR FURTHER INFORMATION CONTACT: Jolene J. Shiraishi at (202) 622-3120 (not a toll free number).

SUPPLEMENTARY INFORMATION:

Background

The proposed regulations that are the subject of these corrections are under section 41 of the Internal Revenue Code.

Need for Correction

As published, the notice of proposed rulemaking contains errors that may prove to be misleading and are in need of clarification.

Correction of Publication

Accordingly, the publication of the notice of proposed rulemaking (REG-133791-02; REG-105606-99), which was the subject of FR Doc. 03-17870, is corrected as follows:

1. On page 44500, column 1, in the preamble under the caption ADDRESSES, last paragraph, second line, the language “IRS Auditorium (7th Floor), Internal” is corrected to read “Room 4718, Internal”.

§ 1.41-6 [Corrected]

2. On page 44503, column 3, § 1.41-6(d), paragraph (ii)(B) (3) of Example 1, last line in column 3, the language “minimum). The group's fixed-base” is corrected to read “maximum). The group's fixed-base”.

3. On page 44504, column 3, § 1.41-6(d), paragraph (ii)(B)(3) of Example 2, column 3 fourth line from the bottom the language “(the statutory minimum). The group's fixed” is corrected to read “(the statutory maximum). The group's fixed”.

Cynthia E. Grigsby,
Acting Chief, Publications and Regulations Branch, Legal Processing Division, Associate Chief Counsel (Procedure and Administration).

[FR Doc. 03-26684 Filed 10-21-03; 8:45 am]

BILLING CODE 4830-01-P